POSTAL SERVICE

39 CFR Part 111

Domestic Competitive Products Pricing and Mailing Standards Changes

AGENCY: Postal Service ™.

ACTION: Final rule.

SUMMARY: The Postal Service is amending Mailing Standards of the United States Postal Service, Domestic Mail Manual (DMM®), to reflect changes to prices and mailing standards for competitive products.

DATES: Effective Date: January 17, 2016.

FOR FURTHER INFORMATION CONTACT: Karen Key at (202) 268-7492 or Garry Rodriguez at (202) 268-7281.

SUPPLEMENTARY INFORMATION: This final rule describes new prices and product features for competitive products, by class of mail, established by the Governors of the United States Postal Service. New prices are available under Docket Number CP2016-9 on the Postal Regulatory Commission's (PRC) Web site at http://www.prc.gov, and also located on the Postal Explorer® Web site at http://pe.usps.com.

The Postal Service will revise the Mailing Standards of the United States Postal Service, Domestic Mail Manual (DMM), to reflect changes to prices and mailing standards for the following competitive products:

• Priority Mail Express ®.

• Priority Mail ®.

• First-Class Package Service ®.

• Parcel Select ®.

• Standard Post ™.

• Extra Services.

• Return Services.

• Mailer Services.

• Recipient Services.

Competitive product prices and changes are identified by product as follows:

Priority Mail Express

Prices

Overall, Priority Mail Express prices will increase 15.6 percent. Priority Mail Express will continue to offer zoned Retail, Commercial Base™, and Commercial Plus™ pricing tiers.

Retail prices will increase an average of 14.4 percent. The price for the Retail Flat Rate Envelope, Legal Flat Rate Envelope, and Padded Flat Rate Envelope will increase to $22.95.

Commercial Base prices offer lower prices to customers who use authorized postage payment methods. Commercial Base prices will increase an average of 17.7 percent. Commercial Base pricing offers an average 10.0 percent discount off retail prices.

The Commercial Plus price category offers price incentives to large volume customers. Commercial Plus prices will increase an average of 48.2 percent. The Postal Service is proposing this increase to match Commercial Plus prices with Commercial Base prices as part of a pricing strategy with the long-term goal of eliminating the Commercial Plus price category to reflect the industry standard of publishing only one set of commercial price tables. Commercial Plus customers may be transitioned to Negotiated Service Agreements (NSAs) for additional discounts.

Priority Mail Express Flat Rate Box

The Postal Service will discontinue the use of Priority Mail Express Flat Rate Boxes as a product offering. As of January 17, 2016, Priority Mail Express Flat Boxes will be charged the applicable Priority Mail Express price based on weight and zone.

Priority Mail

Prices

Overall, Priority Mail prices will increase 9.8 percent. Priority Mail will continue to offer zoned Retail, Commercial Base, and Commercial Plus pricing tiers.

Retail prices will increase an average of 8.6 percent. The Flat Rate Envelope price will increase to $6.45, the Legal Flat Rate Envelope will also increase to $6.45, and the Padded Flat Rate Envelope will increase to $6.80. The Small Flat Rate Box price will increase to $6.80 and the Medium Flat Rate Boxes will increase to $13.45. The Large Flat Rate Box will increase to $18.75 and the Large APO/FPO/DPO Flat Rate Box will increase to $16.75.

Commercial Base prices offer lower prices to customers who use authorized postage payment methods. Commercial Base prices will increase an average of 9.4 percent. Commercial Base pricing offers an average 13.9 percent discount off retail prices.

The Commercial Plus price category offers price incentives to large volume customers. Commercial Plus prices will increase an average of 13.3 percent. The Postal Service is proposing this increase to bring Commercial Plus prices within three percent of Commercial Base prices as part of a pricing strategy with the long-term goal of eliminating the Commercial Plus price category to reflect the industry standard of publishing only one set of commercial price tables. Commercial Plus customers may be transitioned to Negotiated Service Agreements (NSAs) for additional discounts.

Critical Mail

The Postal Service will discontinue the Critical Mail (Critical Mail and Critical Mail with Signature) product offering. As of January 17, 2016, Critical Mail letters and flats will be charged the Commercial Plus Flat Rate Envelope price. Critical Mail with signature letters and flats will be charged the Commercial Plus Flat Rate Envelope price and Signature Confirmation ™ customer generated electronic label fee.

Priority Mail Regional Rate Boxes

The Postal Service will implement a two-tier zone surcharge for Regional Rate Boxes A and B paid at retail. Zones 1-4 will have a $2.25 surcharge and Zones 5-9 will have a $1.00 surcharge.

Additionally, the Postal Service will discontinue the Priority Mail Regional Rate Box ® C to simplify this product offering. As of January 17, 2016, a Regional Rate Box C will be charged the applicable Priority Mail price based on weight and zone.

First-Class Package Service

Prices

Overall, First-Class Package Service prices will increase 12.8 percent. The Intelligent Mail ® package barcode (IMpb) will continue to provide free USPS tracking and confirmation of delivery with these parcels.

First-Class Package Service Restructuring

The Postal Service will discontinue First-Class Package Service Commercial Plus pricing and restructure First-Class Package Service commercial parcel prices to simplify this product offering. First-Class Package Service commercial parcels will only be a single-piece product with prices starting at 1 ounce up to less than 16 ounces. First-Class Package Service commercial parcels will not be sealed against inspection.

Parcel Select

Prices

Parcel Select Destination Entry prices will increase an average of 4.9 percent and Parcel Select Ground (formerly Parcel Select Nonpresort) prices will increase an average of 1.9 percent. The prices for Parcel Select Lightweight® (PSLW) will increase an average of 23.5 percent.

The IMpb will continue to provide free USPS tracking and confirmation of delivery with all Parcel Select parcels.

Parcel Select Nonpresort

The Postal Service will rename Parcel Select Nonpresort as Parcel Select Ground. No changes to the product features or mailing standards are being made as a result of this change.

Parcel Select ONDC and NDC

The Postal Service will discontinue the Parcel Select ONDC and NDC price categories to simplify product offerings. As of January 17, 2016, parcels entered at Parcel Select ONDC and NDC prices will be charged the applicable Parcel Select Ground prices.

Parcel Select Lightweight

The Postal Service will consolidate the Parcel Select Lightweight Machinable and Irregular price tables to simplify this product offering. The new price table, similar to the existing Irregular price table, will be titled “Parcel Select Lightweight-Commercial Parcels” and will have 5-Digit, SCF, NDC, and Mixed NDC/Single Piece price levels. The weight increments will start at 1 ounce and include pieces up to less than 16 ounces. Mail preparation will remain the same for machinable and irregular presorted parcels, and will be subject to the applicable price levels based on sortation.

Standard Post

Overall, Standard Post prices will increase an average of 10.0 percent.

Standard Post

The Postal Service will rename Standard Post as Retail Ground. No changes to the product features or mailing standards are being made as a result of this change.

Extra Services

Adult Signature Service

Adult Signature Required and Adult Signature Restricted Delivery service prices are increasing 3.6 and 3.5 percent respectively. The price for Adult Signature Required will increase to $5.70 and Adult Signature Restricted Delivery will increase to $5.95.

Return Services

Parcel Return Service

Overall, Parcel Return Service (PRS) prices will increase an average of 5.0 percent.

Return Sectional Center Facility (RSCF) prices will increase an average of 5.0 percent and Return Delivery Unit (RDU) prices will increase an average of 5.0 percent.

The Parcel Return Service annual permit fee and annual account maintenance fee will not change at this time.

Parcel Return Service Return Network Distribution Center (RNDC)

The Postal Service will discontinue the RNDC price option to simplify this product offering. As of January 17, 2016, parcels entered at RNDC prices will be charged the applicable Parcel Select Ground price.

Mailer Services

Treatment of Mail—Treatment of Undeliverable Parcel Select

The Postal Service is introducing a reduced Additional Service Fee for Parcel Select shippers who use IMpb™ ACS™ with Shipper Paid Forward/Return, when those packages are forwarded or returned. The Postal Service will charge the ACS & Shipper Paid Forward/Return Additional Service Fee of $1.50 to Parcel Select shippers when their UAA parcels have been processed using IMpb ACS with Shipper Paid Forward/Return. With certain ACS Shipper Paid ancillary services, the forwarding or return postage and ACS & Shipper Paid Forward/Return additional service fee for UAA Parcel Select may be invoiced through the ACS billing process.

Premium Forwarding Service

Premium Forwarding Service® (PFS®) prices will increase an average of 3.6 percent. The enrollment fee paid at the retail counter will increase to $18.65 and the residential and commercial enrollment fee paid online will increase to $17.10 per application. The price of the weekly reshipment charge will increase to $18.65.

USPS Package Intercept

The USPS Package Intercept™ fee will increase 3.3 percent to $12.55.

Pickup on Demand Service

The Pickup on Demand® service daily fee will remain at $20.00 for January 17, 2016.

Recipient Services

Post Office Box Service

The competitive Post Office Box™ service prices will increase an average of 3.5 percent within the modified price ranges.

Other

Click-N-Ship

The Postal Service is restructuring Click-N-Ship® to offer only retail prices. Click-N-Ship will no longer be an authorized payment method for Priority Mail Express and Priority Mail Commercial Base pricing.

Resources

The Postal Service provides additional resources to assist customers with this price change for competitive products. These tools include price lists, downloadable price files, and Federal Register Notices, which may be found on the Postal Explorer® Web site at pe.usps.com.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

100 Retail Mail

* * * * *

110 Priority Mail Express

113 Prices and Eligibility

1.0 Priority Mail Express Prices and Fees

* * * * *

1.3 Flat Rate Packaging

[Revise the first sentence of 1.3 to read as follows:]

Only USPS-produced or approved Flat Rate Envelopes are eligible for the Flat Rate price and are charged a flat rate, regardless of the actual weight (up to 70 pounds) of the mailpiece or domestic destination. * * *

* * * * *

114 Postage Payment Methods

[Revise the heading of 1.0 to read as follows:]

1.0 Basic Standards for Postage Payment

1.1 Payment Method

[Revise the first sentence of 1.1 to read as follows:]

Retail Priority Mail Express postage may be paid with adhesive stamps (see 604.1.0), with meter stamps (see 604.4.0) affixed to each piece, or with Click-N-Ship. * * *

* * * * *

115 Mail Preparation

1.0 Priority Mail Express Supplies

* * * * *

1.2 Sealing Flat Rate Packaging

[Revise the text of 1.2 to read as follows:]

When sealing a Flat Rate Envelope, the container flap must be able to close within the normal fold. Tape may be applied to the flap and seams to reinforce the container provided the design of the container is not enlarged by opening the sides, and the container is not reconstructed in any way.

* * * * *

120 Priority Mail

123 Prices and Eligibility

1.0 Priority Mail Prices and Fees

* * * * *

1.6 Regional Rate Boxes

[Delete the heading 1.6.1 and move the text under 1.6. Revise the text of 1.6 to read as follows:]

Regional Rate Box prices are available to Priority Mail Commercial Base or Commercial Plus customers who use USPS-produced Priority Mail Regional Rate Boxes under 223.1.8. Regional Rate Boxes paid at retail are charged a fee based on zone (1-4 or 5-9), in addition to the applicable Commercial Base or Commercial Plus postage. Regional Rate Boxes that exceed the maximum weight as specified in 223.1.8 or have container flaps that do not close within the normal folds are not eligible for Regional Rate Box prices and are assessed the applicable single-piece Priority Mail price.

[Delete current 1.6.2 in its entirety.]

* * * * *

124 Postage Payment Methods

1.0 Basic Standards for Postage Payment

1.1 Payment Methods

[Revise the text of 1.1 to read as follows:]

Priority Mail postage may be paid with postage stamps (see 604.1.0), with meter stamps (see 604.4.0) affixed to each piece, or with Click-N-Ship.

* * * * *

[Revise section 150 and the DMM globally to change the name from “Standard Post” to “Retail Ground”.]

150 Retail Mail Retail Ground

* * * * *

200 Commercial Mail Letters, Cards, Flats, and Parcels

201 Physical Standards

* * * * *

2.0 Physical Standards for Nonmachinable Letters

* * * * *

[Revise the heading of 2.5 to read as follows:]

2.5 Priority Mail Express and Priority Mail Letters

[Delete the second sentence of 2.5]

* * * * *

3.0 Physical Standards for Machinable and Automation Letters and Cards

* * * * *

3.5 Maximum Weight, Machinable and Automation Letters and Cards

The following maximum weight limits apply:

[Delete item a and renumber items b through d as items a through c.]

* * * * *

4.0 Physical Standards for Flats

* * * * *

4.7 Flat-Size Pieces Not Eligible for Flat-Size Prices

* * * * *

Exhibit 4.7b Pricing for Flats Exceeding Maximum Deflection

* * * * *

[Revise the text in Exhibit 4.7b under “Eligibility with failed deflection” column to read as follows:]

First-Class Mail Presorted (Nonautomation)

Eligibility as presented | Eligibility with failed deflection
Presorted Flat | Single-piece flat or First-Class Package Service.

* * * * *

5.0 Physical Standards for Nonautomation Flats

* * * * *

[Revise the heading of 5.5 to read as follows:]

5.5 Priority Mail Express and Priority Mail Flats

[Delete the second sentence of 5.5.]

6.0 Physical Standards for Automation Flats

* * * * *

6.2 Additional Criteria for Automation Flats

* * * * *

6.2.2 Maximum Weight

Maximum weight limits are as follows:

[Delete item a and renumber items b through e as items a through d.]

* * * * *

8.0 Physical Standards by Class of Mail

* * * * *

8.3 First-Class Package Service Parcels

8.3.1 Weight

[Revise the text of 8.3.1 to read as follows:]

First-Class Package Service parcels must weigh less than 16 ounces.

* * * * *

202 Elements on the Face of a Mailpiece

* * * * *

3.0 Placement and Content of Mail Markings

* * * * *

[Revise the heading of 3.3 to read as follows:]

3.3 Priority Mail Express and Priority Mail Markings

* * * * *

3.6 First-Class Package Service Markings

[Revise the text of 3.6 in its entirety to read as follows:]

The basic required marking “First-Class Package” or “First-Class PKG” must be printed as part of, directly below, or to the left of the postage on all parcels.

* * * * *

3.7 Parcel Select, Bound Printed Matter, Media Mail, and Library Mail Markings

3.7.1 Basic Markings

* * * Optionally, the basic required marking may be printed on the shipping address label as service indicators composed of a service icon and service banner (see Exhibit 3.7.1):

* * * * *

[Revise the second sentence of item b to read as follows:]

b. * * * The appropriate marking (e.g., “PARCEL SELECT”, “MEDIA MAIL”) must be preceded by the text “USPS” and be printed in minimum 20-point bold sans serif typeface, uppercase letters, centered within the banner, and bordered above and below by minimum 1-point separator lines. * * *

* * * * *

3.7.2 Parcel Select Markings

* * * The following product markings are required:

* * * * *

[Delete items b and c, and renumber items d and e as items b and c.]

[Revise renumbered item b to read as follows:]

b. Ground—“Parcel Select Ground” or “Parcel Select GND”.

* * * * *

210 Priority Mail Express

213 Prices and Eligibility

1.0 Prices and Fees

* * * * *

1.3 Commercial Base Prices

Priority Mail Express Commercial Base prices are less than Priority Mail Express retail prices (see Notice 123—Price List). These prices are available to:

* * * * *

[Delete item b and renumber items c through e as items b though d.]

* * * * *

1.5 Flat Rate Packaging

[Revise the first sentence of 1.4 to read as follows:]

Only USPS-produced or approved Flat Rate Envelopes are eligible for the Flat Rate price and are charged a flat rate, regardless of the actual weight (up to 70 pounds) of the mailpiece or domestic destination. * * *

* * * * *

214 Postage Payment and Documentation

1.0 Basic Standards for Postage Payment Options

* * * * *

1.1 Commercial Base Pricing

Commercial Base Priority Mail Express postage may be paid with:

* * * * *

[Delete item b and renumber items c through e as items b through d.]

* * * * *

215 Mail Preparation

1.0 General Information for Mail Preparation

* * * * *

1.2 Sealing Flat Rate Packaging

[Revise the text of 1.2 to read as follows:]

When sealing a Flat Rate Envelope, the container flap must be able to close within the normal fold. Tape may be applied to the flap and seams to reinforce the container provided the design of the container is not enlarged by opening the sides and the container is not reconstructed in any way.

* * * * *

2.0 Priority Mail Express 1-Day and 2-Day

2.1 Mailing Label

[Revise the first sentence of 2.1 to read as follows:]

For each Priority Mail Express item, the mailer must complete Label 11-B or Label 11-F, Label 11-HFPU for Hold For Pickup service, or a single-ply Priority Mail Express label generated through a USPS-approved method. * * *

* * * * *

220 Priority Mail

223 Prices and Eligibility

1.0 Prices and Fees

* * * * *

1.2 Commercial Base Prices

For prices, see Notice 123—Price List. The Commercial Base prices are available for:

[Delete item a and renumber items b through f as items a through e.]

* * * * *

[Delete 1.4, Critical Mail Prices, in its entirety and renumber items 1.5 through 1.13 as items 1.4 through 1.12.]

* * * * *

1.8 Regional Rate Box Prices

* * * Regional Rate Box options are:

* * * * *

[Delete item c.]

* * * * *

1.9 Hold For Pickup

[Revise the text of renumbered 1.9 to read as follows:]

Priority Mail is eligible for Hold For Pickup service under 508.7.0.

* * * * *

1.11 Determining Single-Piece Weight

[Revise the text of renumbered 1.11 to read as follows:]

To determine single-piece weight in any mailing of nonidentical-weight pieces, weigh each piece individually. To determine single-piece weight in a mailing of identical-weight pieces, weigh a sample group of at least 10 randomly selected pieces and divide the total sample weight by the number of pieces in the sample. Except for mailers using eVS, express all single-piece weights in decimal pounds rounded off to two decimal places. Mailers using eVS may round off to four decimals, and eVS will automatically round to the appropriate decimal place. If a customer is using a manifest mailing system, the manifest weight field must be properly completed by adhering to the rules relative to the specific manifest.

* * * * *

3.0 Basic Eligibility Standards for Priority Mail

3.1 Definition

[Revise the second sentence of 3.1 to read as follows:]

* * * Lower weight limits apply to Commercial Plus cubic (see 1.5); Regional Rate Boxes (see 1.9); APO/FPO mail subject to 703.2.0 and 703.4.0 and Department of State mail subject to 703.3.0.

[Delete 3.2 in its entirety and renumber 3.3 through 3.5 as 3.2 through 3.4.]

3.2 IMpb Standards

[Revise the first sentence of renumbered 3.2 to read as follows:]

Unless authorized to use a unique IMb on Priority Mail letters and flats prepared in high-speed environments, all Priority Mail pieces must bear an Intelligent Mail package barcode prepared under 708.5.0. * * *

* * * * *

3.4 Matter Closed Against Postal Inspection

[Revise the text of renumbered 3.4 to read as follows:]

Priority Mail matter is closed against postal inspection.

* * * * *

224 Postage Payment and Documentation

1.0 Basic Standards for Postage Payment

1.1 Postage Payment Options

1.1.1 Commercial Base Pricing

Priority Mail Commercial Base and Regional Rate Box postage may be paid with:

[Delete item a and renumber items b through e as items a through d.]

* * * * *

[Delete 1.1.3, Critical Mail Pricing, in its entirety and renumber 1.1.4 as 1.1.3.]

* * * * *

225 Mail Preparation

1.0 General Information for Mail Preparation

1.1 Priority Mail Packaging Provided by the USPS

[Delete the last sentence in 1.1.]

* * * * *

[Delete 4.0, Additional Standards for Preparing Critical Mail, in its entirety and renumber 5.0 as 4.0.]

* * * * *

226 Enter and Deposit

1.0 Deposit

1.1 General

[Revise the first sentence of 1.1 to read as follows:]

Mailpieces bearing postage evidencing indicia must be deposited in a collection box or at a postal facility within the ZIP Code shown in the indicia, except as permitted under 2.0 or 604.4.6.3. * * *

* * * * *

250 Parcel Select

[Revise 250 and the DMM globally to change the name of “Parcel Select Nonpresort” to “Parcel Select Ground”.]

253 Prices and Eligibility

1.0 Prices and Fees

1.1 Price Application

* * * The price categories for Parcel Select are as follows:

* * * * *

[Delete item b and renumber items c and d as b and c.]

[Revise renumber item b to read as follows:]

b. Ground

* * * * *

1.2 Parcel Select Prices

[Revise the first sentence of 1.2 to read as follows:]

Pricing is available for Parcel Select at the Destination Entry and Parcel Select Ground levels. * * *

* * * * *

2.0 Content Standards

2.1 Definition of a Parcel

[Revise the second sentence of 2.1 to read as follows:]

* * * When postage is paid using USPS-approved PC Postage in conjunction with barcoded Parcel Select Ground mailings, there is no minimum volume.

* * * * *

4.0 Price Eligibility for Parcel Select and Parcel Select Lightweight

* * * * *

[Delete 4.2 in its entirety and renumbered 4.3 through 4.8 as 4.2 through 4.7.]

* * * * *

4.3 Parcel Select Lightweight

* * * * *

4.3.2 Price Application

[Revise the first sentence of renumbered 4.3.2 to read as follows:]

Prices for Parcel Select Lightweight apply to parcels that meet the eligibility standards in 2.0 and 4.4 and the preparation standards in 255.7.0, 705.6.0, or 705.8.0. * * *

* * * * *

[Delete renumbered 4.6, Delivery and Return Addresses, in its entirety and renumber 4.7 as 4.6.]

* * * * *

254 Postage Payment and Documentation

1.0 Basic Standards for Postage Payment

1.1 Postage Payment Options

Mailing fees must be paid for the current 12-month period at the Postal Service facility where postage is paid for the mailing.

[Revise item a to read as follows:]

a. Permit imprint may be used for identical-weight pieces provided the mail can be separated at acceptance into groups that each contain pieces subject to the same combination of prices.

* * * * *

2.0 Mailing Documentation

* * * * *

2.2 Other Documentation

[Revise the first sentence of 2.2 to read as follows:]

When presented for acceptance, documentation of postage by entry office and presort level (e.g., by DNDC and by 5-digit ZIP Code for DSCF and DDU prices) is required under 705.2.0 through 705.4.0. * * *

* * * * *

255 Mail Preparation

1.0 General Information for Mail Preparation

* * * * *

1.8 Parcel Select Markings

[Revise the text of 1.8 to read as follows:]

Each piece in a Parcel Select mailing must bear a price marking under 202.3.7.2. Markings must appear in either the postage area described in 202.3.7, or in the address area on the line directly above or two lines above the address if the marking appears alone (when no other information appears on that line). The “Retail Ground” marking is not allowed on any Parcel Select mailpiece.

* * * * *

[Delete 5.0, Preparing NDC Presort and ONDC Presort, in its entirety, and renumber 6.0 and 7.0 as 5.0 and 6.0.]

* * * * *

6.0 Preparing Parcel Select Lightweight

6.1 Basic Standards

[Revise the introductory text of renumbered 6.1 to read as follows:]

All mailings and all pieces in each mailing at Parcel Select Lightweight prices are subject to the specific preparation standards in 7.2 and 7.3, and to these general standards:

* * * * *

256 Enter and Deposit

* * * * *

2.0 Deposit

* * * * *

2.5 Mail Separation and Presentation of Destination Entry Mailings

* * * Mailers presenting destination entry mailings to the Postal Service must meet the following requirements:

[Revise the first sentence of item a to read as follows:]

a. Mark each DNDC, DSCF, or DDU Parcel Select piece as “Parcel Select,” according to 202.3.7.2. * * *

* * * * *

280 First-Class Package Service

283 Prices and Eligibility

1.0 Prices and Fees for First-Class Package Service

* * * * *

[Revise the heading and text of 1.2 to read as follows:]

1.2 Price Determination for First-Class Package Service

First-Class Package Service prices start at 1 ounce and must weigh less than 16 ounces. Any fraction of an ounce is considered a whole ounce.

1.3 Commercial Prices

[Revise the introductory text of 1.3 to read as follows:]

Commercial prices are available when paid by one of the following methods:

* * * * *

[Delete 1.4, Commercial Plus Prices, in its entirety and renumber 1.5 through 1.8 as 1.4 through 1.7.]

1.4 Surcharge

A surcharge applies for parcels that are irregularly shaped, such as rolls, tubes, and triangles.

* * * * *

[Delete renumbered 1.5, Presort Mailing Fee, 1.6, Computing Postage for First-Class Package Service, and 1.7, Determining Single-Piece Weight in their entirety.]

* * * * *

2.0 Content Standards for First-Class Package Service Parcels

2.1 General

[Revise the text of 2.1 to read as follows:]

In addition to restricted material described in 601.8.0, parcels mailed at First-Class Package Service prices may not contain documents or personal correspondence, except that such parcels may contain invoices, receipts, incidental advertising, and other documents that relate in all substantial respects to merchandise contained in the parcels.

2.2 Matter Required To Be Mailed as First-Class Mail

[Revise the introductory text of 2.2 to read as follows:]

See 233.2.0 for a detailed description of matter required to be mailed as First-Class Mail or Priority Mail. The following types of contents must be mailed as First-Class Mail or -Priority Mail:

* * * * *

[Delete 2.3, Restricted Air Transportation, in its entirety.]

[Revise the heading of 3.0 to read as follows:

3.0 Basic Eligibility Standards for First-Class Package Service

* * * * *

3.2 Defining Characteristics

3.2.1 Inspection of the Contents

[Revise the text of 3.2.1 to read as follows:]

Articles mailed at First-Class Package Service prices are not sealed against postal inspection. Regardless of physical closure, the mailing of articles at First-Class Package Service prices constitutes consent by the mailer to postal inspection of the contents.

* * * * *

3.3 Additional Basic Standards

[Revise the introductory text of 3.3 to read as follows:]

All First-Class Package Service parcels must:

* * * * *

[Revise the text of item b to read as follows:]

b. Bear a delivery address that includes the correct ZIP Code or ZIP+4.

[Delete 3.5, Move Update Standard, and 3.6 ZIP Code Accuracy in their entirety.]

* * * * *

[Revise the heading of 4.0 to read as follows:

4.0 Price Eligibility for First-Class Package Service

[Delete 4.1 through 4.4 and move the text under 4.5 as new 4.0 to read as follows:]

Single-piece prices apply to nonpresorted parcels mailed under 285.1.0.

248 Postage Payment and Documentation

* * * * *

[Revise the heading of 2.0 to read as follows:]

2.0 Postage Payment for First-Class Package Service

2.1 Permit Imprint Postage

[Revise the second sentence of 2.1 to read as follows:]

* * * All mail manifested using the Electronic Verification System (eVS) under 705.2.9 must be paid using a permit imprint. * * *

[Revise the heading and text of 2.2 to read as follows:]

2.2 Affixed Payment for First-Class Package Service

Each First-Class Package Service parcel bearing postage evidencing system indicia (IBI Meter or PC Postage) must bear the full numerical value of postage at the First-Class Package Service price for which it qualifies.

* * * * *

285 Mail Preparation

[Delete 1.0, 2.0, 3.0, and 4.0 in their entirety and add a new 1.0 to read as follows:]

1.0 Preparation for First-Class Package Service

The following standards apply to single-piece First-Class Package Service:

a. Each piece is required to bear the markings under 202.3.6.

b. There are no sorting requirements for single-piece First-Class Package Service parcels.

* * * * *

286 Enter and Deposit

1.0 Deposit

* * * * *

1.2 Approved Collections

The USPS may collect First-Class Package Service parcels at a mailer's facility if part of an approved collection service for other classes of mail; space is available on the transportation; and:

* * * * *

[Revise the text of item c to read as follows:]

c. Postage is paid with postage evidencing system postage.

[Delete 1.3, Permit Imprint Collection, in its entirety.]

2.0 Verification8

[Delete the heading 2.1 and move the text under 2.0. Revise the text of 2.0 to read as follows:]

Mailings are subject to USPS procedures to verify correct postage payment. The return of mailings to the mailer's facility for reworking is the mailer's responsibility.

[Delete current 2.2 Timeframe for Corrective Action, and 2.3, Payment at Single-Piece Price Rather than Correcting Errors, in their entirety.]

500 Additional Mailing Services

* * * * *

503 Extra Services

1.0 Basic Standards for All Extra Services

* * * * *

1.4 Matter Eligible for Extra Services

1.4.1 Eligible Matter

* * * * *

Exhibit 1.4.1 Eligible Matter—Domestic Destinations

[Delete “Critical Mail” in the “Eligible Mail Class” column under the following Extra Services: Insurance, Signature Confirmation, and Adult Signature Required.]

* * * * *

4.0 Insured Mail

* * * * *

4.3 Basic Standards

4.3.1 Description

Insured mail is subject to the basic standards in 1.0; see 1.4 for eligible matter. The following additional standards apply to insured mail:

* * * * *

[Revise item e to read as follows:]

e. First-Class Mail, First-Class Package Service, and Priority Mail may be insured, if it contains matter that is eligible to be mailed at Standard Mail, Retail Ground, or Package Services prices.

* * * * *

505 Return Services

* * * * *

3.0 Merchandise Return Service (MRS)

* * * * *

3.7 Additional Standards for USPS Return Services

* * * * *

3.7.4 Postage

[Revise the first sentence of 3.7.4 to read as follows:]

Postage is calculated based on the weight of the parcel and zone, except for First-Class Package Return Service, for which postage is based on the weight of the parcel. * * *

* * * * *

3.7.5 Description

[Revise the text of 3.7.5 to read as follows:]

Priority Mail Return Service, First-Class Package Return Service, and Ground Return Service provide return service options to customers who meet the applicable standards in 3.0. Except for restricted material described in Publication 52, any mailable matter may be mailed using any of the USPS Return Service options. Any content that constitutes First-Class Mail matter may only be mailed using Priority Mail Return Service.

* * * * *

3.7.8 Additional Standards for First-Class Package Return Service

[Delete the second sentence of 3.7.8.]

* * * * *

4.0 Parcel Return Service

4.1 Prices and Fees

* * * * *

4.1.2 Parcel Return Service Prices

[Revise the first sentence in the introductory text of 4.1.2 to read as follows:]

Parcel Return Service prices are based on the price that applies to the weight increment of each addressed piece, and on the designated return facility, RDU or RSCF. * * *

* * * * *

[Revise the first sentence of item b to read as follows:]

b. Balloon and Oversized Prices: RSCF parcels that weigh less than 20 pounds but measure more than 84 inches in combined length and girth are charged the applicable price for a 20-pound parcel (balloon price). * * *

* * * * *

[Delete item c in its entirety.]

4.1.3 Postage

[Revise the introductory text of 4.1.3 to read as follows:]

There are two PRS price categories:

* * * * *

[Delete item c in its entirety.]

[Delete 4.1.4, Standard Post Prices, in its entirety.]

4.2 Basic Standards

4.2.1 Description

[Revise the text of 4.2.1 to read as follows:]

Parcel Return Service (PRS) applies to parcels that are picked up in bulk by authorized permit holders or their agents. Permit holders guarantee payment of postage for all parcels mailed with a PRS label. By providing an approved PRS label to its customers, the merchant or other party designates the permit holder identified on the label as their agent for receipt of mail bearing that label, and authorizes the USPS to provide that mail to the permit holder or its designee. PRS permit holders also may retrieve parcels at one or more designated return sectional center facilities (RSCFs) or designated return delivery units (RDUs). Payment for parcels returned under PRS is deducted from a separate advance deposit (postage-due) account funded through the Centralized Account Processing System (CAPS). The permit holder must be authorized to use eVS (see 705.2.9).

* * * * *

4.2.9 Pickup Schedule and Location

[Revise the second sentence in the introductory text of 4.2.9 to read as follows:]

* * * If the permit holder (or agent) has existing appointments to deliver Parcel Select parcels to destination facilities and those facilities are one of the designated RSCFs or designated RDUs, those appointments can be used for retrieving PRS parcels at the same time. * * *

* * * * *

[Delete item a and renumber items b through d as items a through c.]

* * * * *

[Delete renumbered item c.]

* * * * *

4.3 Labels

* * * * *

4.3.5 PRS Label Format Examples

The following are PRS label format examples. Note: The ZIP Code 56999 appears in each example for demonstration purposes only.

[Replace the RNDC label example in items a and b with RSCF/RDU labels.]

* * * * *

507 Mailer Services

1.0 Treatment of Mail

* * * * *

1.5 Treatment for Ancillary Services by Class of Mail

* * * * *

1.5.4 Retail Ground, Package Services, and Parcel Select

[Revise the introductory text of 1.5.4 to read as follows:]

Undeliverable-as-addressed (UAA) Retail Ground, Package Services, and Parcel Select (see 1.5.3 for Parcel Select Lightweight) mailpieces are treated as described in Exhibit 1.5.4, with these additional conditions:

* * * * *

[Delete item g in its entirety.]

* * * * *

Exhibit 1.5.4 Treatment of Undeliverable Standard Post, Package Services, and Parcel Select

* * * * *

“Address Service Requested”

Shipper Paid Forwarding/Return Option 1

* * * * *

If change-of-address order on file:

[Revise the first bullet under “If change-of-address order on file” to read as follows:]

• Months 1 through 12: Parcel forwarded. Forwarding postage is charged to the mailer as follows; at the applicable Retail Ground or Package Services single-piece price or the Parcel Select Ground price plus the ACS & Shipper Paid Forward/Return additional service fee. Separate notice of new address provided (electronic ACS fee charged).

* * * * *

Shipper Paid Forwarding/Return Option 2

* * * * *

If change-of-address order on file:

[Revise the first bullet under “If change-of-address order on file” to read as follows:]

• Months 1 through 12: Parcel forwarded. Forwarding postage is charged to the mailer as follows; at the applicable Retail Ground or Package Services single-piece price or the Parcel Select Ground price plus the ACS & Shipper Paid Forward/Return additional service fee. Separate notice of new address provided (electronic ACS fee charged).

* * * * *

Shipper Paid Forwarding/Return Option 3

If no change-of-address order on file:

[Revise the text under “If no change-of-address order on file” to read as follows:]

Piece returned with reason for nondelivery attached; Return postage is charged to the mailer as follows: at the Retail Ground or Package Services single-piece price, or the Parcel Select Ground price plus the ACS & Shipper Paid Forward/Return additional service fee. Separate notice provided (electronic ACS fee is charged).

If change-of-address order on file:

[Revise the first bullet under “If change-of-address order on file” to read as follows:]

• Months 1 through 12: Parcel forwarded. Forwarding postage is charged to the mailer as follows: at the Retail Ground or Package Services single-piece price or the Parcel Select Ground price plus the ACS & Shipper Paid Forward/Return additional service fee. Separate notice of new address provided (electronic ACS fee is charged).

* * * * *

“Change Service Requested”

(For Shipper Paid Forwarding/Return participants via ACS only)

* * * * *

If change-of-address order on file:

[Revise the first bullet under “If change-of-address order on file” to read as follows:]

• Months 1 through 12: Parcel forwarded; postage due charged to the mailer as follows: at the Retail Ground or Package Services single-piece price for the specific class of mail or the Parcel Select Ground price plus the ACS & Shipper Paid Forward/Return additional service fee; separate notice of new address provided (electronic ACS fee charged).

* * * * *

1.6 Attachments and Enclosures

* * * * *

1.6.3 Package Services and Parcel Select

Undeliverable, unendorsed mailpieces with a First-Class Mail attachment or enclosure are forwarded or returned as follows:

[Revise the text of item a to read as follows:]

a. Parcel Select at the Parcel Select Ground price plus the additional service fee.

* * * * *

508 Recipient Services

* * * * *

7.0 Hold For Pickup

7.1 Fees and Postage

7.1.1 Postage Payment Methods

[Revise the introductory text of 7.1.1 to read as follows:]

Hold For Pickup service is available for the mail classes listed under 7.2.2, when postage is paid by:

* * * * *

7.2 Basic Information

* * * * *

7.2.2 Basic Eligibility

[Revise the introductory text of 7.2.2 to read as follows:]

Hold For Pickup service is available at retail Post Office locations for Priority Mail Express presented under 113.4.2 or 113.4.3, and for Priority Mail using Click-N-Ship. It is also available with commercial mailings of Priority Mail Express presented under 213.4.2. or 213.4.3, Priority Mail, First-Class Package Service, Parcel Select Ground, Parcel Select Lightweight, and Bound Printed Matter parcels, when:

* * * * *

[Revise the first sentence of item b to read as follows:]

b. For electronic option, mailers establish an electronic link with USPS to exchange acceptance and delivery data. * * *

* * * * *

600 Basic Standards for All Mailing Services

601 Mailability

* * * * *

6.0 Mailing Containers—Special Types of Envelopes and Packaging

* * * * *

[Delete 6.2, Critical Mail Envelopes, and renumber 6.3 through 6.6 as 6.2 through 6.5.]

* * * * *

602 Addressing

1.0 Elements of Addressing

* * * * *

1.5 Return Addresses

* * * * *

1.5.3 Required Use of Return Addresses

The sender's domestic return address must appear legibly on:

* * * * *

[Revise item e to read as follows:]

e. Priority Mail.

* * * * *

5.0 Move Update Standards

5.1 Basic Standards

[Revise the second sentence in the introductory text of 5.1 to read as follows:]

* * * Each address, except for mail bearing an alternative address format (under 3.0), in a mailing at commercial First-Class Mail presorted or automation prices, Standard Mail, or Parcel Select Lightweight prices is subject to the Move Update standard and must meet these requirements:

* * * * *

[Revise the text of item b to read as follows:]

b. The Move Update standard is met when an address used on a mailpiece in a mailing at any class of mail is updated under 5.2, and the same address is used in a First-Class Mail, Standard Mail, or Parcel Select Lightweight mailing within 95 days after the address has been updated.

5.2 USPS-Approved Methods

The following methods are authorized for meeting the Move Update standard:

* * * * *

[Revise the first sentence of item d to read as follows:]

d. For First-Class Mail only: Mailer Move Update Process Certification and USPS-approved alternative methods for mailers with legitimate restrictions on incorporating USPS-supplied change-of-address information into their mailing lists. * * *

* * * * *

6.0 ZIP Code Accuracy Standards

6.1 Basic Standards

[Revise the introductory text of 6.1 to read as follows:]

Except for mail bearing a simplified address, addresses used on pieces in a mailing at all commercial First-Class Mail, nonbarcoded presorted Periodicals, Standard Mail, Parcel Select Lightweight, and Bound Printed Matter presorted and carrier route prices are subject to the ZIP Code accuracy standard and must meet these requirements:

* * * * *

604 Postage Payment Methods

* * * * *

4.0 Postage Meters and PC Postage Products (“Postage Evidencing Systems”)

4.1 Basic Information

* * * * *

4.1.5 Authorized Classes of Mail

[Revise the text of 4.1.5 to read as follows:]

Mailers may use postage evidencing systems to affix or apply indicia on any class of mail except Periodicals and Bound Printed Matter. PC Postage products may be used for Retail Ground only by USPS-Approved Shippers.

* * * * *

5.0 Permit Imprint (Indicia)

* * * * *

5.3 Indicia Design, Placement, and Content

* * * * *

[Revise the heading and text of 5.3.6 to read as follows:]

5.3.6 Priority Mail Express, Priority Mail, First-Class Mail, and First-Class Package Service Format

A permit imprint indicia on Priority Mail Express, Priority Mail, First-Class Mail, or First-Class Package Service mailpieces must show “Priority Mail Express,” “Priority Mail” (or “Priority”), “First-Class Mail,” or “First-Class Package” (or “First-Class Pkg”) as applicable; “U.S. Postage Paid”; city and state; and permit number. If the Electronic Verification System (eVS) is used under 705.2.9, the marking “eVS” (or the alternative “e-VS” or “E-VS”) must appear directly below the permit number. The “Priority Mail Express,” or “Priority Mail” (or “Priority”), marking may be omitted when using USPS-provided Priority Mail Express or Priority Mail containers. The indicia may show the mailing date, amount of postage paid, or the number of ounces for which postage is paid. The ZIP Code of the permit holder may be shown directly after the state name or in a separate inscription reading “ZIP Code 00000,” when that ZIP Code does not create uncertainty about the permit holder's correct address or permit number. Instead of printing the city and state of mailing in the indicia, the mailer may print “Mailed From ZIP Code,” followed by the 5-digit ZIP Code assigned to the postmaster of the mailing office. The indicia may also include required price markings.

* * * * *

7.0 Computing Postage

7.1 General Standards

7.1.1 Determining Single-Piece Weight for Retail and Commercial Mail

[Revise the third sentence of 7.1.1 to read as follows:]

* * * Express all single-piece weights in decimal pounds rounded off to two decimal places for the following mailpieces: Priority Mail Express, Priority Mail, Parcel Select, Bound Printed Matter, Media Mail, and Library Mail prices. * * *

* * * * *

12.0 Scan Based Payment

12.1 Basic Information

* * * * *

12.1.2 Eligibility

[Revise the second sentence of 12.1.2 to read as follows:]

* * * Returns include Ground Return Service, First-Class Package Return Service, Priority Mail Return Service, and Parcel Return Service shipments. * * *

* * * * *

700 Special Standards

* * * * *

705 Advanced Preparation and Special Postage Payment Systems

* * * * *

6.0 Combining Mailings of Standard Mail, Package Services, and Parcel Select Parcels

* * * * *

[Revise the heading of 6.3 to read as follows:]

6.3 Combining Parcels—DSCF and DDU Prices

6.3.1 Qualification

Combination requirements for specific discounts and prices are as follows:

[Delete item a and renumber items b and c as items a and b.]

* * * * *

6.3.2 Preparation and Prices

Combined parcels must be prepared as follows:

* * * * *

[Delete item c and renumber item d as item c.]

* * * * *

8.0 Preparing Pallets

* * * * *

8.4 Pallet Boxes

8.4.1 Use

[Revise the text of 8.4.1 to read as follows:]

A mailer may use pallet boxes constructed of single-, double-, or triple-wall corrugated fiberboard placed on pallets to hold sacks or parcels. Pallet boxes must protect the mail and maintain the integrity of the pallet loads throughout transportation, handling, and processing. Single-wall corrugated fiberboard may be used only for light loads (such as lightweight parcels) that do not require transportation by the USPS beyond the entry office, or for Parcel Select DSCF and DDU price mail. Mailers must supply their own pallet boxes. The base of the boxes must measure approximately 40 by 48 inches.

8.4.2 Height

[Delete the last sentence of 8.4.2.]

* * * * *

8.5 General Preparation

* * * * *

8.5.2 Required Preparation

[Revise the introductory text of 8.5.2 to read as follows:]

The following standards apply to Periodicals, Standard Mail, Parcel Select, and Package Services, except Parcel Select mailed at DSCF and DDU prices:

* * * * *

8.5.3 Minimum Load

The following minimum load standards apply to mail prepared on pallets:

[Revise the introductory text of item a to read as follows:]

a. For Periodicals, Standard Mail, Parcel Select, and Package Services (except for Parcel Select mailed at DSCF and DDU prices):

* * * * *

[Revise the text of item b to read as follows:]

b. Parcel Select mailed at DSCF and DDU prices. A minimum load for the price claimed may be stated in terms of weight, combined piece minimum and weight, or minimum height. Mail entered at the Parcel Select DSCF prices and prepared directly on pallets or in pallet boxes on pallets must be prepared under either a minimum height requirement or under one of two options requiring a minimum number of pieces and pounds per pallet. There is no minimum weight requirement for an SCF pallet containing 5-digit scheme and 5-digit sacks prepared for the DSCF price. There are no minimums for the Parcel Select DDU price.

8.5.4 Minimum Height of Mail

[Revise the introductory text of 8.5.4 to read as follows:]

The definitions of the minimum height of mail used to qualify for DSCF Parcel Select prices are as follows:

* * * * *

[Delete 8.19, Parcel Select—Origin Network Distribution Center (ONDC) Presort Discount, in its entirety and renumber 8.20 through 8.22 as 8.19 through 8.21.]

* * * * *

18.0 Priority Mail Express Open and Distribute and Priority Mail Open and Distribute

* * * * *

18.1 Prices and Fees

* * * * *

18.1.5 Payment Method

Postage payment methods are as follows:

[Revise the first sentence in item b to read as follows:]

b. Priority Mail Express postage may be paid under any of the options listed in 214.1.1. * * *

[Revise the first sentence in item c to read as follows:]

c. Priority Mail postage may be paid under any of the options listed in 224.1.1.1. * * *

* * * * *

18.5 Preparation

18.5.1 Containers for Expedited Transport

Acceptable containers for expedited transport are as follows:

* * * * *

[Revise the text of item c to read as follows:]

c. A Priority Mail Express or Priority Mail Open and Distribute shipment destined to a DDU may be contained in USPS-provided Priority Mail Express Flat Rate envelopes using the applicable label in 18.5.3a, or Priority Mail Flat Rate Envelopes and boxes using the applicable label in 18.5.3b.

* * * * *

21.0 Optional Combined Parcel Mailings

* * * * *

21.2.2 Price Application

Apply prices based on the criteria in 200 and the following standards:

* * * * *

[Revise the text of item e to read as follows:]

e. Parcel Select prices are based on the destination entry for pieces in 5-digit, 3-digit, ADC, or NDC containers.

* * * * *

708 Technical Specifications

1.0 Standardized Documentation for First-Class Mail, Periodicals, Standard Mail, and Flat-Size Bound Printed Matter

* * * * *

1.3 Price Level Column Headings

The actual name of the price level (or abbreviation) is used for column headings required by 1.2 and shown below:

* * * * *

b. Presorted First-Class Mail, barcoded and nonbarcoded Periodicals flats, nonbarcoded Periodicals letters, and machinable and nonmachinable Standard Mail:

[Revise the table under item b to read as follows:]

Price | Abbreviation
Presorted [First-Class Mail letters/cards, flats, and parcels] | Presort.
5-Digit [all Standard Mail and Periodicals letters] | 5D.
FSS [Periodicals flats, Standard Mail flats] | SD.
3-Digit [all Standard Mail and Periodicals letters] | 3D.
SCF [for Standard Mail parcels] | SCF.
AADC [Standard Mail machinable letters] | AB.
ADC [Standard Mail nonmachinable letters, flats, and irregular parcels, and all Periodicals] | AD.
Basic [In-County Periodicals] | BS.
Mixed AADC [Standard Mail machinable letters] | MB.
Mixed ADC [Standard Mail nonmachinable letters, flats, irregular parcels; and all Periodicals] | MD.
NDC [Standard Mail machinable parcels and Marketing parcels 6 ounces and over] | NDC.
Mixed NDC [Standard Mail machinable parcels and Marketing parcels 6 ounces and over] | MNDC.
Firm [Outside-County Periodicals] | FB.

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

* * * * *

Priority Mail Open and Distribute

* * * * *

[Delete the “First-Class Package Service, Parcels” section in its entirety.]

* * * * *

First-Class Mail

* * * * *

[Delete the “FC Parcels—Presorted” section in its entirety.]

* * * * *

7.0 Optional Endorsement Lines (OELs)

* * * * *

7.2.5 ZIP Code Information

* * * * *

Exhibit 7.2.5 OEL Labeling Lists

* * * * *

First-Class Mail

* * * * *

[Delete the “Parcels” line in its entirety from the “First-Class Mail” section.]

* * * * *

Index and Appendices

A

* * * * *

Address Quality Standards, Parcels

* * * * *

Move Update

[Delete DMM reference 283.3.5]

* * * * *

B

* * * * *

Bundles of Parcels

* * * * *

sacks

[Delete the “First-Class Package Service” line under “sacks”.]

* * * * *

D

* * * * *

Documentation

* * * * *

commercial parcels

[Delete the “First-Class Package Service” line under “commercial parcels”.]

* * * * *

E

* * * * *

Entry

* * * * *

commercial parcels

[Revise “First-Class Mail” to read as “First-Class Package Service”.]

* * * * *

F

* * * * *

First-Class Package Service, Commercial Parcels

[Revise the index of “First-Class Package Service”, commercial parcels to read as follows:]

combined with other classes of mail, 703.9.0

computing postage, 283.1.1

content standards, 283.2.0

deposit of, 286.1.0

documentation, 284.3.0

eligibility standards, 283

incidental enclosure with another class of mail, 703.9.5

mail preparation, 285

markings required on each mailpiece general, 202.1.0

postage payment methods, 284

postage statements, 284.2.0

price eligibility, 283.4.0

size, 201.8.3

surcharge, 283.1.4

undeliverable mail, 507.1.5.1

weight, 201.8.3.1

ZIP Code accuracy, 283.3.5

* * * * *

L

Labels

* * * * *

sacks and trays

* * * * *

commercial parcels

[Delete the “First-Class Package Service” line under “commercial parcels”.]

* * * * *

M

* * * * *

Mailing Fees

* * * * *

commercial parcels

[Delete the “First-Class Package Service” line under “commercial parcels”.]

* * * * *

Move Update Standard

[Delete DMM reference 283.3.5 from the “commercial parcels” line.]

* * * * *

P

* * * * *

Parcel Select

* * * * *

mail preparation

[Delete the “NDC Presort prices on pallets” and “ONDC Presort prices” lines under “mail preparation”.]

* * * * *

price eligibility

[Delete the “NDC Presort prices” and “ONDC Presort prices” lines under “price eligibility”.]

* * * * *

Presort Verification

* * * * *

commercial parcels

[Delete the “First-Class Package Service” line under “commercial parcels”.]

* * * * *

Priority Mail

* * * * *

[Delete the “Critical Mail” line under “Priority Mail”.]

* * * * *

S

Sacks

[Delete the “First-Class Package Service” line under “sacks”.]

* * * * *

We will publish an appropriate amendment to 39 CFR part 111 to reflect these changes.

Stanley F. Mires,
Attorney, Federal Compliance.

[FR Doc. 2015-26920 Filed 10-23-15; 8:45 am]

BILLING CODE 7710-12-P